DEPARTMENT OF DEFENSE

Defense Acquisition Regulations System

[Docket Number DARS-2013-0038]

Information Collection Requirement; Defense Federal Acquisition Regulation Supplement; Publicizing Contract Actions

AGENCY: Defense Acquisition Regulation System, Department of Defense (DoD).

ACTION: Notice and request for comments regarding a proposed extension of an approved information collection requirement.

SUMMARY: In compliance with Section 3506(c)(2)(A) of the Paperwork Reduction Act of 1995 (44 U.S.C. chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through January 31, 2014. DoD proposes that OMB extend its approval for these collections to expire three years after the approval date.

DATES: DoD will consider all comments received by January 7, 2014.

ADDRESSES: You may submit comments, identified by OMB Control Number 0704-0286, using any of the following methods:

○ Federal eRulemaking Portal: ­http://www.regulations.gov. Follow the instructions for submitting comments.

○ Email: dfars@osd.mil. Include OMB Control Number 0704-0231 in the subject line of the message.

○ Fax: (571) 372-6094.

○ Mail: Defense Acquisition Regulations System, Attn: Ms. Lesa Scott, OUSD(AT&L)DPAP(DARS), Room 3B855, 3060 Defense Pentagon, Washington, DC 20301-3060.

Comments received generally will be posted without change to http://www.regulations.gov, including any personal information provided.

FOR FURTHER INFORMATION CONTACT: Ms. Lesa Scott, at (571) 372-6104. The information collection requirements addressed in this notice are available on the World Wide Web at: http://www.acq.osd.mil/dpap/dars/dfarspgi/current/index.htm. Paper copies are available from Ms. Lesa Scott, OUSD(AT&L)DPAP(DARS), Room 3B855, 3060 Defense Pentagon, Washington, DC 20301-3060.

SUPPLEMENTARY INFORMATION: Title, Associated Form, and OMB Number: Defense Federal Acquisition Regulation Supplement (DFARS) Part 205, Publicizing Contract Actions, and associated clause at DFARS 252.205-7000, Provision of Information to Cooperative Agreement Holders; OMB Control Number 0704-0286.

Needs and Uses: This information collection requirement pertains to contractor information provided to Cooperative Agreement Holders. DFARS subpart 205.4, Release of Information, and the clause at DFARS 252.205-7000 require defense prime contractors awarded contracts over $1,000,000 to provide cooperative agreement holders, upon request, a list of employees or offices responsible for entering into subcontracts under defense contracts. The cooperative agreement holders further disseminate the information to other firms within a geographic area defined in the individual cooperative agreements. The purpose of the cooperative agreements is for the agreement holders to provide procurement technical assistance to business entities within a specified geographic area. This guidance implements 10 U.S.C. 2416.

Affected Public: Businesses and other for-profit entities and not-for-profit institutions.

Number of Respondents: 7,000.

Average Responses Per Respondent: 1.

Annual Responses: 7,000.

Average Burden per Response: Approximately 1.1 hour.

Annual Response Burden Hours: 7,700.

Reporting Frequency: On occasion.

Summary of Information Collection

DFARS subpart 205.4 and the clause at DFARS 252.205-7000 require defense prime contractors awarded contracts over $1,000,000 to provide cooperative agreement holders, upon request, a list of those employees or offices responsible for entering into subcontracts under defense contracts. The list must include the business address, telephone number, and area of responsibility of each employee or office. The contractor need not provide the list to a particular cooperative agreement holder more frequently than once a year.

Manuel Quinones,
Editor, Defense Acquisition Regulations System.

[FR Doc. 2013-26814 Filed 11-7-13; 8:45 am]

BILLING CODE 5001-06-P